FEDERAL COMMUNICATIONS COMMISSION

47 CFR Part 20

[WT Docket No. 10-254: DA 12-1745]

Updated Information and Comment Sought on Review of Hearing Aid Compatibility Regulations

AGENCY: Federal Communications Commission.

ACTION: Proposed rule.

SUMMARY: In this document, the Wireless Telecommunications Bureau (Bureau) seeks updated comment on the operation and effectiveness of the Commission's rules relating to hearing aid compatibility of wireless handsets. The Bureau seeks updated comment on whether, in light of technological and market developments, the Commission's deployment benchmarks continue to ensure that hearing aid-compatible handsets are available to all consumers. Additionally, the Bureau asks for current information on whether the rules have succeeded in making hearing aid-compatible phones available to consumers with a full range of different feature sets, and whether the rules appropriately account for the challenges facing smaller service providers.

DATES: Comments due on or before December 26, 2012.

ADDRESSES: You may submit comments, identified by WT Docket No. 10-254, by any of the following methods:

Federal Communications Commission's Web Site: http://fjallfoss.fcc.gov/ecfs2/. Follow the instructions for submitting comments.

Mail.

People with Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

FOR FUTHER INFORMATION CONTACT: Jennifer Flynn, Spectrum & Competition Policy Division, Wireless Telecommunications Bureau, (202) 418-0612 or by email Jennifer.Flynn@fcc.gov.

SUPPLEMENTARY INFORMATION: This is a summary of the Commission's Public Notice in WT Docket No. 10-254, DA 12-1745, released November 1, 2012. The full text of the Public Notice is available for public inspection and copying during business hours in the FCC Reference Information Center, Portals II, 445 12th Street SW., Room CY-A257, Washington, DC 20554. Copies may be purchased from the Commission's duplicating contractor, Best Copy and Printing, Inc. (BCPI), 445 12th Street SW., Room CY-B402, Washington, DC 20554, 202-488-5300 or 800-378-3160 (voice), 202-488-5562 (TTY), 202-488-5563 (fax), or you may contact BCPI at its Web site: http://www.BCPIWEB.com. When ordering documents from BCPI, please provide the appropriate FCC document number, for example, DA 12-1745. The Updated Information and Comment Sought on Review of Hearing Aid Compatibility Regulations Public Notice is available on the Internet at the Commission's Web site at http://www.fcc.gov/document/hearing-aid-compatibility-review-additional-comments-sought and related documents are also available by using the search function for WT Docket No. 10-254 on the Commission's Electronic Comment Filing System (ECFS) Web page at http://apps.fcc.gov/ecfs/. To request information in accessible formats (computer diskettes, large print, audio recording, and Braille), send an email to fcc504@fcc.gov or call the FCC's Consumer and Governmental Affairs Bureau at 202-418-0530 (voice) or 202-418-0432 (TTY).

Summary

1. By the Public Notice, the Wireless Telecommunications Bureau (Bureau) seeks updated comment on the operation and effectiveness of the Commission's rules relating to hearing aid compatibility of wireless handsets, found at 47 CFR 20.19. In December 2010, the Bureau issued a public notice to initiate a comprehensive review of the wireless hearing aid compatibility regulations (2010 Review PN), 76 FR 2625, January 14, 2011. Due to intervening market, technical, and regulatory developments since the 2010 Review PN, the Bureau seeks updated and additional comment on these matters.

Background

2. In the Hearing Aid Compatibility Policy Statement and Second Report and Order released on August 5, 2010, 75 FR 54508, Sept. 8, 2010, the Commission reiterated its intention, first stated in 2008, to initiate a review of the hearing aid compatibility rules for digital wireless services and handsets in 2010. Shortly thereafter, on October 8, 2010, the Twenty-first Century Communications and Video Accessibility Act of 2010 (CVAA, Pub. L. 111-260) became law, ensuring that individuals with disabilities have access to emerging Internet Protocol-based communications and video programming technologies in the 21st Century. Among other provisions, the CVAA extended hearing aid compatibility requirements to customer premises equipment “used with advanced communications services that is designed to provide 2-way voice communications via a built-in speaker intended to be held to the ear in a manner functionally equivalent to a telephone.” The CVAA preserved the exemption of mobile handsets from the requirement that all telephones be hearing aid-compatible, while maintaining the Commission's authority to revoke or limit such exemption.

3. In December 2010, the Bureau released the 2010 Review PN, which sought comment on numerous questions relating to the operation of the current hearing aid compatibility rules and their success in making a broad selection of wireless phones accessible to people who use hearing aids and cochlear implants, as well as in making information about those phones available to the public. In particular, the 2010 Review PN sought comment on several substantive issues.

4. First, the Bureau sought comment on the availability of hearing aid-compatible handsets. Specifically, the Bureau requested comment on whether the Commission's deployment benchmarks appropriately ensure that hearing aid-compatible handsets are available to all consumers. The Bureau also asked whether the rules have succeeded in making hearing aid-compatible phones available to consumers with a full range of different feature sets, and whether the rules appropriately account for the challenges facing smaller service providers. In addition, the Bureau requested comment on whether the M3 and T3 technical standards contained in American National Standards Institute Technical Standard C63.19 (ANSI Standard C63.19), which is incorporated in the Commission's rules, appropriately ensure that users of hearing aids and cochlear implants will be able to access wireless communications.

5. The Bureau also sought comment on whether sufficient information about hearing aid-compatible phones is being made available to the Commission and the public. In particular, the Bureau asked whether the Commission's reporting system is collecting appropriate information in an efficient way, and whether that information is being made available to the public in an accessible manner. The Bureau further sought comment on whether manufacturers' and service providers' Web sites are providing useful and accessible information, whether point-of-sale and packaging disclosures are appropriately informing consumers, and whether the in-store testing requirement is effective. The Bureau also asked what actions the Commission might take to provide better information to consumers with hearing loss who obtain handsets from sources other than service providers.

6. The Bureau also sought comment on technical issues. Specifically, the Bureau asked whether additional measures are needed to facilitate acoustic coupling compatibility. The Bureau asked about the effects on hearing aid compatibility of display screens, wireless headsets, and simultaneous transmission capabilities in handsets. The Bureau also asked what actions the Commission might take to facilitate better interoperability of hearing aids and cochlear implants with handsets.

7. In addition, the Bureau sought comment about the state of innovation in solutions to enable people with hearing loss to access wireless technology and whether the Commission's rules appropriately facilitate such innovation, investment, and competition. Finally, the Bureau asked what the Commission should do to promote collaboration among consumers with hearing loss, the communications industry, and the hearing aid industry.

8. On April 9, 2012, the Bureau and the Office of Engineering and Technology released the Hearing Aid Compatibility Third Report and Order, 77 FR 41919, July 17, 2012, which adopted the 2011 revision of ANSI Standard C63.19 as an applicable technical standard for evaluating the hearing aid compatibility of wireless phones. The 2011 ANSI Standard expands the range of frequencies over which hearing aid compatibility can be tested to 698 MHz—6 GHz and it establishes a direct method for measuring the radio frequency (RF) interference level of wireless devices to hearing aids, thereby enabling testing procedures to be applied to operations over any RF air interface or protocol. The 2011 ANSI Standard also exempts from testing certain low power transmitters that are unlikely to cause unacceptable RF interference to hearing aids. Under the recently adopted rules, beginning August 16, 2013, newly introduced multi-band and multi-mode handset models that include operations not covered under ANSI Standard C63.19-2007 must be tested under ANSI Standard C63.19-2011 in order to be considered hearing aid-compatible. The Commission's deployment benchmarks will become applicable to operations over frequency bands and air interfaces that are newly covered under the 2011 revision of the standard on August 16, 2014, for manufacturers and nationwide carriers and on November 16, 2014, for other service providers.

Request for Comments

9. During the period since the record closed on the 2010 Review PN, technologies and markets for both wireless handsets and hearing assistance devices have continued to evolve. For example, manufacturers have introduced many new handset models, including models that both do and do not meet hearing aid compatibility technical standards, as evidenced by the most recent annual reports filed by manufacturers on July 15, 2012. Many of these handsets offer 3G and 4G broadband capability as well as other advanced and innovative features. At the same time, increasing numbers of hearing aids are equipped with telecoils. The Bureau seeks comment on how this and other developments affect any of the matters addressed in the 2010 Review PN. For example, do the Commission's rules continue to ensure that a full range of hearing aid-compatible handsets is available to all consumers? Have developments in the marketplace posed new challenges, or relieved pre-existing challenges, to smaller providers? Are consumers adequately informed about the capabilities of the new handsets and their functionality with hearing aids and cochlear implants? In particular, are consumers informed about the functioning of handsets that have a separate menu-driven mode for operation with telecoils, and that activating this mode may affect the phone's acoustic coupling performance? Do the existing technical standards adequately and completely measure the new handsets' hearing aid compatibility? With the introduction of devices in new sizes and form factors, is it sufficiently clear whether a device is “typically held to the ear in any of its ordinary uses” and therefore covered under the hearing aid compatibility rules? The Bureau encourages commenters to address these and any other effects of technological and market developments.

10. The Bureau also seeks comment on the impact of the newly adopted 2011 revision of ANSI Standard C63.19. In particular, because the direct measurement methodology made it possible to eliminate certain conservative assumptions, it is approximately 2.2 dB easier under the new standard for a GSM phone to receive an M3 rating. In light of this development, is it still necessary and appropriate to allow phones operating over GSM at 1900 MHz to achieve an M3 rating by means of a user-controlled power reduction? Do the new standard or the rules implementing that standard affect any other issues addressed in the 2010 Review PN? The Bureau also notes that the Telecommunications Industry Association (TIA) has released new and revised standards relating to volume control and amplification for wireline phones, including digital cordless phones, which include revised measurement procedures as well as a new metric based on conversational gain. Although ASC C63® has not addressed these procedures and metrics in the context of mobile phones, the Consumer and Governmental Affairs Bureau has recognized their value in promoting accessibility to wireline services for people with hearing loss, and the Bureau invites comment on their potential relevance and benefits in the mobile context.

11. The Bureau encourages commenters, to the extent feasible, to include specific, quantifiable information regarding the costs and benefits of the Commission's hearing aid compatibility reporting and enforcement regime. Under the Hearing Aid Compatibility Act, the Commission is required to revoke or limit the exemption of phones used with public mobile services from hearing aid compatibility requirements if (i) Such revocation or limitation is in the public interest; (ii) continuation of the exemption without such revocation or limitation would have an adverse effect on hearing-impaired individuals; (iii) compliance with hearing aid compatibility requirements is technologically feasible for the telephones to which the exemption applies; and (iv) compliance with hearing aid compatibility requirements would not increase costs to such an extent that the telephones to which the exemption applies could not be successfully marketed. However, the statute leaves the Commission substantial discretion to implement the mechanisms that most cost-effectively ensure compliance with these requirements. Accordingly, the Bureau invites further comment on the costs and benefits of these mechanisms, particularly as applied to small entities. For example, what are the costs to small entities of accurately and timely completing FCC Form 655 and of responding to the Commission's enforcement inquiries? What are the benefits to consumers of having the information in the hearing aid compatibility reports available from the smallest service providers as well as the major national and regional carriers? Are there alternative approaches that would achieve substantially the same benefits in a more cost-effective manner?

12. The Bureau also welcomes comment on any other new or changed circumstances relevant to the operation and effect of the hearing aid compatibility rules.

Procedural Matters

13. Pursuant to §§ 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

• Electronic Filers: Comments may be filed electronically using the Internet by accessing the ECFS: http://fjallfoss.fcc.gov/ecfs2/.

• Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail (although we continue to experience delays in receiving U.S. Postal Service mail). All filings must be addressed to the Commission's Secretary, Office of the Secretary, Federal Communications Commission.

• All hand-delivered or messenger-delivered paper filings for the Commission's Secretary at 236 Massachusetts Avenue NE., Suite 110, Washington, DC 20002. The filing hours at this location are 8:00 a.m. to 7:00 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class mail, Express Mail, and Priority Mail should be addressed to 445 12th Street SW., Washington, DC 20554.

One copy of each pleading must be delivered electronically, by email or facsimile, or if delivered as paper copy, by hand or messenger delivery, by commercial overnight courier, or by first-class or overnight U.S. Postal Service mail (according to the procedures set forth above for paper filings), to the Commission's duplicating contractor, Best Copy and Printing, Inc., at FCC@BCPIWEB.COM or (202) 488-5563 (facsimile).

Federal Communications Commission.
Jane E. Jackson,
Associate Chief, Wireless Telecommunications Bureau.

[FR Doc. 2012-28494 Filed 11-23-12; 8:45 am]

BILLING CODE 6712-01-P